ENVIRONMENTAL PROTECTION AGENCY

(ER-FRL-6612-4)

Environmental Impact Statements and Regulations; Availability of EPA Comments

Availability of EPA comments prepared October 16, 2000 through October 20, 2000 pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated

April 14, 2000 (65 FR 20157).

Draft EISs

ERP No. D-AFS-L65366-AK Rating EC2, Woodpecker Project Area, Timber Harvesting, Dispersed Recreation Opportunities and Watershed Improvements, Implementation, Tongass National Forest, Petersburg Ranger District, Mitkof Island, Petersburg, AK.

Summary: EPA expressed environmental concerns with the greater potential for impacts to water, soil and wildlife resources under Alternative 2, the preferred alternative. Alternative 2 calls for the highest level of road construction and the second highest level of harvesting. EPA recommended additional analysis and changes in the final EIS to further address and mitigate impacts to water quality and fish habitat.

ERP No. D-AFS-L67038-ID Rating EO2, Genesis Placer Claim Gold Suction Dredging, Plan of Operations, Nez Perce National Forest, Red River Ranger District, Red River a Tributary to the South Fork Clearwater River, ID.

Summary: EPA expressed environmental objections on the proposed suction dredging project because of the potential to violate applicable water quality standards for turbidity and sediment, and as well as degrade aquatic habitat, and result in adverse effects to listed and sensitive fish species. Alternative 2 lacks mitigation measures and EPA recommends that the final EIS include additional site-specific information on project reach, potential impacts to aquatic resources, compliance with standards and environmental thresholds, monitoring, and estimated risk and uncertainties of project implementation as well as detailed mitigation measures.

ERP No. D-BLM-J65325-WY Rating EC2, Jack Morrow Hills Coordinated Activity Plan, Implementation, Rock Springs, Portions of Sweetwater, Fremont and Subelette Counties, WY.

Summary: EPA expressed environmental concerns based on the need to fully disclose environmental impacts, especially for the preferred alternative, project objectives which are not consistent with the Green River Management Plan and level of detail for the proposed adaptive management plan, such as including threshold values to protect wildlife.

ERP No. D-BLM-K67052-NV Rating EO2, Newmont Gold Mining, South Operations Area Project Amendment, Operation and Expansion, Plan of Operations, Elko and Eureka Counties, NV.

Summary: EPA expressed environmental objections to the proposed expansion of Newmont's South Operations Area, due to potential significant adverse impacts to water and air quality. Specifically, potential acid rock drainage, contaminated pit lake water and mercury emissions to the air. EPA requests that the final EIS include additional acid generating potential analysis, pollution prevention measures, mitigation, and project monitoring.

ERP No. D-NPS-F61019-MN Rating EC2, Voyageurs National Park General Management, Visitor Use and Facilities Plans, Implementation, Koochiching and St. Louis Counties, MN.

Summary: EPA expressed environmental concerns with the consistency of NPS actions related to proposed wilderness designation, scope of decisions to be made, characterization of existing conditions and impacts associated with the alternatives, and alternatives analysis.

ERP No. D-SFW-K39063-CA Rating EC2, Bolsa Chica Lowlands Restoration Project, Creation of Wetland Habitat Areas, Approval and Issuance of USCOE Section 404 and USCGD Bridge Permits, Orange County, CA.

Summary: EPA has expressed concerns with the proposal because the probability of success of the preferred alternative is unknown. Implementation would result in irreversible destruction of the existing wetland complex and irretrievable commitment of project funds in the construction of an ocean inlet and 6-lane highway bridge. EPA recommended that less-structural and less-costly alternatives be considered as interim measures to enhance the existing wetland and aquatic habitats at Bolsa Chica, while the probabilities associated with the preferred alternative modeling studies are tested and validated further. EPA also recommended the FEIS consider an evaluation of alternative mitigation sites which could fulfill the Ports mitigation requirements if the preferred alternative is not selected.

Final EISs

ERP No. F-AFS-K65227-CA 64-Acre Tract Intermodal Transit Center, Construction and Operation, Lake Tahoe Basin Management Unit, Tahoe City, Placer County, CA.

Summary: No formal comment letter was sent to the preparing agency.

ERP No. F-BLM-G65069-NM Rio Puerco Resource Management Plan Amendment, Managing Land and Resource for EL Malpais National Conservation Area and Chain of Craters Wilderness Study Area, Lies South of the City of Grants, Cibola County, NM.

Summary: EPA expressed no objections to the preferred alternative.

ERP No. F-BLM-G65071-NM Albuquerque Field Office Riparian and Aquatic Habitats Management, To Restore and Protect, Rio Puerco Resource Management Plan Amendment (RMPA), Cibola, Sandoval, McKinley, Rio Arriba, Bernalillo, Valencia and Santa Fe Counties, NM.

Summary: EPA had no objections.

ERP No. F-BLM-L65339-OR North Bank Habitat Management Area (NBHMA)/Area of Critical Environmental Concern (ACEC), Federally Endangered Columbian White-Tailed Deer (CWTD) and Special Status Species Habitat Enhancements to Ensure Viability Over Time, Implementation, OR.

Summary: No formal comment letter was sent to the preparing agency.

ERP No. F-NPS-J65285-MT Interagency Bison Management Plan for State of Montana and Yellowstone National Park, Implementation, Maintain a wild, Free Ranging Population, Address the risk of Brucellosis Transmission, Park and Gallatin Counties, MT.

Summary: EPA continues to express environmental objections with adverse impacts to the Yellowstone Bison herd, excluding elk from the Brucellosis management plan, segmentation of NEPA, and the level of action being taken given the extremely low risk to livestock from Brucellosis.

ERP No. F-SFW-J64007-00 Plum Creek Native Fish Habitat Conservation Plan, Issuance of an Incidental Take Permit for Federally Protected Native Fish Species, MT, ID and WA.

Summary: EPA has reviewed the Native Fish Habitat Conservation Plan (NFHCP) and Proposed Permit for Taking of Federally Protected Native Fish Species on Plum Creek Timber Company Land. The EPA expressed environmental concerns regarding integration of the NFHCP with the overall conservation efforts in the entire project area; adequacy of resources for the Services for oversight and evaluation of the Permit and NFHCP; the level of protection of proposed riparian management prescriptions; NFHCP-TMDL consistency; and the adequacy of the proposed monitoring and adaptive management program.

Dated: October 31, 2000.
Joseph C. Montgomery,
Director, NEPA Compliance Division, Office of Federal Activities.

[FR Doc. 00-28283 Filed 11-2-00; 8:45 am]

BILLING CODE 6560-50-P